DEPARTMENT OF AGRICULTURE

Forest Service

Withdrawal of the Regional Guide for the Eastern Region, Forest Service

AGENCY: Forest Service, USDA.

ACTION: Notice.

SUMMARY: Pursuant to 36 CFR 219.35(e) the Regional Forester for the Eastern Region of the Forest Service has withdrawn the Regional Guide for the Eastern Region. There were no decisions from that regional guide transferred to regional supplements of the Forest Service directives system or to any forest plan.

DATES: The withdrawal was effective November 7, 2001.

FOR FURTHER INFORMATION CONTACT: Sam Emmons, Regional Planner, 310 W. Wisconsin Ave., Milwaukee, WI 53203. Phone 414-297-3429 or TDD 414-297-3507.

RESPONSIBLE OFFICIAL: Robert T. Jacobs, Regional Forester, Eastern Region, 310 W. Wisconsin Ave, Milwaukee, Wisconsin 53203.

SUPPLEMENTARY INFORMATION: This action was required to comply with 36 CFR part 219, § 219.35(e) that directs that within one year of November 9, 2000, the Regional Forester must withdraw the regional guide. When a regional guide is withdrawn, the Regional Forester must identify the decisions in the regional guide that are to be transferred to a regional supplement of the Forest Service directive system (36 CFR 200.4) or to one or more plans and give notice in the Federal Register of these actions. In the case of the Regional Guide for the Eastern Region, the withdrawal was made November 7, 2001 and documented through a letter to the Chief. There were no decisions that were transferred to the directives system or to forest plans.

Dated: November 7, 2001.
Robert T. Jacobs,
Regional Forester.

[FR Doc. 01-29437 Filed 11-26-01; 8:45 am]

BILLING CODE 3410-11-M